ENVIRONMENTAL PROTECTION AGENCY

[ER-FRL-6615-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of FEDERAL ACTIVITIES AT (202) 564-7167. An explanation of the ratings assigned to draft environmental impact statements (EISs) was published in FR dated April 14, 2000 (65 FR 20157).

Draft EISs

ERP No. D-AFS-L65370-OR Rating LO, South Bend Weigh and Safety Station Establishment, Special Use Permit for Construction, Maintenance and Operation, Deschutes National Forest Lands along US 97 near the Newberry National Volcanic Monument, Deschutes County, OR.

Summary: EPA expressed a lack of objections with the proposed project. However, EPA recommended that the cumulative effects analyses on Mule Deer be revised including additional information to support conclusions presented in the EIS.

ERP No. D-BLM-G65077-NM Rating LO, Santo Domingo Pueblo and Bureau of Land Management Proposed Land Exchange Project, Sandoval and Santa Fe Counties, NM.

Summary: EPA had no objections to the selection of the preferred alternative and was pleased with the inclusion of conservation easements.

ERP No. D-IBR-L28008-ID Rating EO2, Arrowrock Dam Outlet Works Rehabilitation, Construction and Operation, To Remove 10 Lower Level Ensign Valves and Replace with 10 Clamshell Gates, Boise River, City of Boise, ID.

Summary: EPA expressed objections because all alternatives would likely result in violations of Idaho water quality standards (WQS), including the exceedance of the Total Maximum Daily Load allocation of sediment, and endanger threatened bull trout populations that overwinter in Arrowrock Reservoir. EPA recommends that the Bureau examine additional alternatives and mitigation measures to avoid or minimize impacts to water quality and bull trout and that the EIS compare results of numerical modeling for water quality to WQS thresholds, include additional information on the effects to bull trout, and contain a more comprehensive monitoring plan.

ERP No. DS-FHW-J40149-CO Rating EC2, Colorado Forest Highway 80, Guanella Pass Road (also known as Park County Road 62, Clear Creek County Road 381 and Forest Development Road 118), Additional Alternative includes Rehabilitation, Light Reconstruction and Full Construction, Funding, Clear Creek and Park Counties, CO.

Summary: EPA continues to express concerns regarding project impacts to wetlands, water quality and wildlife.

ERP No. DS-NOA-B91025-00 Rating LO, Federal Lobster Management in the Exclusive Economic Service, Implementation, American Lobster Fishery Management Plan, NY, NH and MA.

Summary: EPA had no objections to the project.

Final EISs

ERP No. F-AFS-A65168-00, Forest Service Roadless Area Conservation, Implementation, Proposal to Protect Roadless Areas.

Summary: While the final EIS generally addressed EPA's major concerns, EPA did suggest that the Record of Decision outline the details of the Tongass transition regarding duration of timber sale contracts pursuant to 36 CFR 223.31.

ERP No. F-AFS-J60020-00 Yellowstone Pipeline Proposed Changes to Existing Pipeline between Thompson Fall and Kingston, Sanders County, MT and Shoshone County, ID.

Summary: EPA supports the Forest Service's efforts to reduce the risk of future pipeline exposoures, and conflicts between maintenance and repair of the pipeline and stream protection goals. EPA also suggests that additional recommended mitigation measures shown in Appendix E (FEIS) be included in final preferred alternative selected in the Record of Decision, to further reduce the potential for petroleum releases.

ERP No. F-AFS-J65326-MT, Ashland Post-Fire Project, Proposal to Implement Restoration Activities to Maintain Watershed, Custer National Forest, Powder River and Rosebud Counties, MT.

Summary: EPA supports the purposed project to stabilize soils and maintain watershed function by minimizing soil erosion and maintaining soil productivity, stream function and water quality. EPA continues to express concerns with erosion and sediment production from timber harvest activities.

ERP No. F-BLM-A99217-00, Programmatic EIS—Surface Management Regulations for Locatable Mineral Operation, (43 CFR 3809), Public Land.

Summary: While the FEIS did address EPA's concerns with performance standards, bonding, reclamation provisions and “unnecessary or undue degradation” EPA continues to express concerns with potential environmental impacts resulting from inadequate financial guarantees and not fully linking the EIS to the plan of operation and applicable permits.

ERP No. F-COE-D36118-DE, Fenwick Island Feasibility Study, Storm Damage Reduction, Delaware Coast from Cape Henlopen to Fenwick Island, Protective Berm and Dune Construction, Community of Fenwick Island, Sussex County, DE.

Summary: EPA did not have any objections regarding this proposed project.

ERP No. F-DOD-A11075-00, National Missile Defense (NMD) Deployment System, Analysis of Possible Deployment Sites: AK, AS and ND.

Summary: While EPA has no additional concerns, EPA did express concern about the PAVE PWQS radar facilities which are a component of NMD and will be assessed in a separate EIS.

ERP No. F-DOE-L00008-00, PROGRAMMATIC—Accomplishing Expanded Civilian Nuclear Energy Research and Development and Isotope Production Missions in the United States, Including the Role of the Fast Flux Test, ID, TN, WA.

Summary: No formal comment letter was sent to the preparing agency.

ERP No. F-FAA-B51019-RI, T.F. Green Airport Project, To Implement the Part 150 Noise Abatement Procedures in a Safe and Efficient Manner, Warwick County, RI.

Summary: EPA requested that the Record of Decision include a more thorough EJ analysis, additional information about cumulative impacts, and firm commitments to mitigation measures.

ERP No. F-FHW-D40302-WV, US 522 Upgrade and Improvements Project, From the Virginia State Line through Morgan County to the Maryland State Line, Funding, NPDES and COE Section 404 Permit, Berkeley Springs, Morgan County, WV.

Summary: EPA maintained concerns with the potential wetland, stream, and residential impacts of the proposed highway project. In addition, EPA expressed concern with the potential impacts this project may have on the Potomac River Bridge and Route 522 in Maryland.

ERP No. F-FHW-K53008-NV, Reno Railroad Corridor, Implementation of the Freight Railroad Grade Separation Improvements in the Central Portion of the City of Reno, Washoe County, NV.

Summary: EPA expressed continuing concerns regarding the adequacy of the Dust Control Plan. EPA requested the inclusion of specific PM-10 control measures in the Dust Control Plan and requested a stated commitment to these measures from the lead agency in the Record of Decision.

ERP No. F-FHW-L40204-WA, NE 8TH/I-405 Interchange Project, Construction, Funding, Right-of-Way Use Permit and NPDES Stormwater Permit, City of Bellevue, King County, WA.

Summary: Due to a lack of objections. EPA did not comment on this proposed project.

ERP No. F-NPS-F39038-00, Lower Saint Croix National Scenic Riverway Cooperative Management Plan, Implementation, MN and WI.

Summary: EPA continued to express concerns about impacts to water quality, managing camping to reduce trampling and inappropriate disposal of human waste and the zebra mussel infestation of the Lower St. Croix River. EPA asked that these issues be addressed in the Record of Decision.

ERP No. F-USN-C11017-NY, Naval Weapons Industrial Reserve Plant Bethpage to Nassau County, Transfer and Reuse, Preferred Reuse Plan for the Property, Town of Oyster Bay, Nassau County, NY.

Summary: Although the FEIS addressed a number of issues identified in EPA's comment letter on the DEIS, there are still outstanding concerns about transportation-related air quality impacts and indoor air quality.

ERP No. FS-AFS-J65287-UT, Rhyolite Fuel Reduction Project to the South Spruce Ecosystem Rehabilitation Project, Implementation, Dixie National Forest, Cedar City Ranger District, Iron County, UT.

Summary: No formal comment letter was sent to the preparing agency.

ERP No. FS-NOA-E64016-FL, Florida Keys National Marine Sanctuary (FKNMS) Comprehensive Management Plan, Updated Information concerning a Proposal to Establish a No-Take Ecological Reserve in the Tortugas Region, FL.

Summary: EPA had concerns about preventing unauthorized activities in the “no-take” zones and controlling access to these areas, enforcement, and jurisdiction of the project because there are many multi-jurisdictional (Local/State/Federal) agencies that were and will be involved in the completion of this project. In particular, management details for the Tortugas Ecological Reserve warrant further discussion in the FSEIS.

ERP No. FS-UAF-E11032-FL, Homestead Air Force Base (AFB) Disposal and Reuse, Implementation, Dade County, FL.

Summary: No formal comment letter was sent to the preparing agency.

Dated: January 30, 2001.
Joseph C. Montgomery,
Director, NEPA Compliance Division, Office of Federal Activities.

[FR Doc. 01-2882 Filed 2-1-01; 8:45 am]

BILLING CODE 6560-50-U